DEPARTMENT OF DEFENSE

[Docket ID: DOD-2018-OS-0029]

Privacy Act of 1974; System of Records

AGENCY: Office of the Secretary, DoD.

ACTION: Notice of a new System of Records.

SUMMARY: The Office of the Secretary of Defense proposes to add a new system of records, Spouse Education and Career Opportunities (SECO) Program, DPR 46 DoD. This program makes available the resources and tools to help military spouses with career exploration and discovery, career education and training, employment readiness, and career connections at any point within the military spouse's career. The records allow the spouse to build a profile including their contact information, education, and employment data. This allows the individual to save information over time in order to easily prepopulate it into tools such as resume builders and career and education planning resources. Records may also be used as a management tool for statistical analysis, tracking, reporting, evaluating program effectiveness and conducting research.

DATES: Comments will be accepted on or before June 20, 2018. This proposed action will be effective on the date following the end of the comment period unless comments are received which result in a contrary determination.

ADDRESSES: You may submit comments, identified by docket number and title, by any of the following methods:

• Federal Rulemaking Portal: http://www.regulations.gov.

Follow the instructions for submitting comments.

• Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Luz D. Ortiz, Chief, Records, Privacy and Declassification Division (RPD2), 1155 Defense Pentagon, Washington, DC 20301-1155, or by phone at (571) 372-0478.

SUPPLEMENTARY INFORMATION: The Department of Defense (DoD) Spouse Education and Career Opportunities (SECO) Program (DPR 46 DoD) is the primary source of education, career and employment counseling for all military spouses seeking post-secondary education, training, licenses and credentials necessary for portable career employment. The SECO program delivers the resources and tools necessary to assist spouses of service members with career exploration/discovery, career education and training, employment readiness, and career connections at any point within the military spouse's career. It is imperative the DoD collect data to ensure the SECO program meets its overarching goal of increasing employment opportunities for military spouses. The DoD requires the information in the proposed collection for program planning and management purposes. Collected information will ensure the SECO program can assemble relevant metrics and make determinations of program viability and improvement. Additionally, the data collected is utilized to build a spouse profile allowing information to be saved over time and to prepopulate information into tools such as resume builders and career and education planning resources.

This program complies with 10 U.S.C. 1784, Employment Opportunities for Military Spouses and 10 U.S.C. 1784a, Education and Training Opportunities for Military Spouses to Expand Employment and Portable Career Opportunities by requiring the DoD to assist military spouses with education, training, and career opportunities.

Military spouses may learn about the SECO program in various ways including through the Military OneSource program, installation service providers, from other military spouses and via general online searches. Once aware of the SECO program, a military spouse can access it by simply going online to the following URL: https://myseco.militaryonesource.mil. Users are able to review resources at that time or select to log in to create an account.

All information is collected from military spouses online via the SECO system and utilized to provide military spouses with education and employment resources tailored to their specific needs. Military spouse eligibility is verified through the Defense Enrollment Eligibility Reporting Systems (DEERS).

Once logged in, military spouses may opt in to receive email notifications from their account to remind them of outstanding tasks (e.g. completing their profile) and to receive updates on upcoming events and news. Spouses opting into email notifications receive them once per month.

The Office of the Secretary of Defense notices for systems of records subject to the Privacy Act of 1974, as amended, have been published in the Federal Register and are available from the address in FOR FURTHER INFORMATION CONTACT or at the Defense Privacy, Civil Liberties, and Transparency Division website at http://defense.gov/privacy.

The proposed systems reports, as required by the Privacy Act of 1974, as amended, were submitted on April 26, 2018, to the House Committee on Oversight and Government Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

Dated: May 16, 2018.
Shelly E. Finke,
Alternate OSD Federal Register Liaison Officer, Department of Defense.

SYSTEM NAME AND NUMBER

Spouse Education and Career Opportunities (SECO) Program, DPR 46 DoD.

SECURITY CLASSIFICATION:

Unclassified.

SYSTEM LOCATION:

Defense Information Systems Agency (DISA), Defense Enterprise Computing Centers (DECC) Montgomery, 401 East Moore Drive, Maxwell Air Force Base, Alabama 36114-3000.

SYSTEM MANAGER(S):

Director, Office of Family Readiness Policy (OFRP) or SECO Program Manager, Military Community and Family Policy (MC&FP), 4800 Mark Center Drive, Alexandria, VA 22350-2300; email: osd.msepjobs@mail.mil, phone: 571-372-5314.

AUTHORITY FOR MAINTENANCE OF THE SYSTEM:

10 U.S.C. 136, Under Secretary of Defense for Personnel and Readiness; 10 U.S.C. 1144, Employment Assistance, Job Training Assistance, and Other Transitional Services: Department Of Labor; 10 U.S.C. 1784, Employment opportunities for military spouses; 10 U.S.C. 1784a, Education and training opportunities for military spouses to expand employment and portable career opportunities; and DoD Instruction 1342.22, Military Family Readiness.

PURPOSE OF THE SYSTEM:

The SECO Program is the primary source of education, career and employment counseling for all military spouses. The SECO website delivers the resources and tools necessary to assist military spouses with career exploration/discovery, career education and training, employment readiness, and career connections at any point within the military spouse's career.

Records may also be used as a management tool for statistical analysis, tracking, reporting, evaluating program effectiveness and conducting research.

CATEGORIES OF INDIVIDUALS COVERED BY THE SYSTEM:

Participating spouses of members of the United States Armed Forces (military spouses).

CATEGORIES OF RECORDS IN THE SYSTEM:

Military spouse's name, DoD ID number, date of birth, gender, mailing and home address, years as military spouse, personal email address, personal cell and home telephone number, work experience, education, certificates and licenses, skills, abilities, competencies, and other information related to the individual concerning career networking providers, affiliations, and materials; Military sponsor's name, pay grade, current projected date of separation, branch of service, service eligibility, and time in service.

RECORD SOURCE CATEGORIES:

The individual, Defense Enrollment Eligibility Reporting System (DEERS).

ROUTINE USES OF RECORDS MAINTAINED IN THE SYSTEM, INCLUDING CATEGORIES OF USERS AND THE PURPOSES OF SUCH USES:

In addition to those disclosures generally permitted under 5 U.S.C. 552a(b) of the Privacy Act of 1974, as amended, the records contained herein may specifically be disclosed outside the DoD as a routine use pursuant to 5 U.S.C. 552a(b)(3) as follows:

a. To civilian educational institutions where the participant is enrolled, for the purposes of ensuring correct enrollment and billing information.

b. To the Department of Education, Consumer Financial Protection Bureau and the Department of Justice for the purpose of complying with E.O. 13607, Establishing Principles of Excellence for Educational Institutions Serving Service Members, Veterans, Spouses, and Other Family Members.

c. To contractors, grantees, experts, consultants, students, and others performing or working on a contract, service, grant, cooperative agreement, or other assignment for the federal government when necessary to accomplish an agency function related to this system of records.

d. To the appropriate federal, state, local, territorial, tribal, or foreign, or international law enforcement authority or other appropriate entity where a record, either alone or in conjunction with other information, indicates a violation or potential violation of law, whether criminal, civil, or regulatory in nature.

e. To any component of the Department of Justice for the purpose of representing the DoD, or its components, officers, employees, or members in pending or potential litigation to which the record is pertinent.

f. In an appropriate proceeding before a court, grand jury, or administrative or adjudicative body or official, when the DoD or other Agency representing the DoD determines that the records are relevant and necessary to the proceeding; or in an appropriate proceeding before an administrative or adjudicative body when the adjudicator determines the records to be relevant to the proceeding.

g. To the National Archives and Records Administration for the purpose of records management inspections conducted under authority of 44 U.S.C. 2904 and 2906.

h. To a Member of Congress or staff acting upon the Member's behalf when the Member or staff requests the information on behalf of, and at the request of, the individual who is the subject of the record.

i. To appropriate agencies, entities, and persons when (1) the DoD suspects or has confirmed that there has been a breach of the system of records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

j. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are maintained in electronic storage media, in accordance with the safeguards mentioned below.

POLICIES AND PRACTICES FOR RETRIEVAL OF RECORDS:

Information in this system may be retrieved by name or DoD ID number.

POLICIES AND PRACTICES FOR RETENTION AND DISPOSAL OF RECORDS:

These records are retained and disposed of consistent with the National Archives and Records Administration approved records disposition schedule (General Records Schedule 3.2, Item 30). User accounts are deleted after 3 consecutive years of inactivity.

ADMINISTRATIVE, TECHNICAL, AND PHYSICAL SAFEGUARDS:

Unauthorized access to records is low due to SECO being hosted on a DoD Risk Management Framework life-cycle cybersecurity infrastructure. Electronic records are maintained on a military installation in a secure building in a controlled area accessible only to authorized personnel. Physical entry is restricted by the use of locks and passwords and administrative procedures which are changed periodically. The system is designed with access controls, comprehensive intrusion detection, and virus protection. Access to personally identifiable information is role based and restricted to those requiring the data in the performance of their official duties and upon completing annual information assurance and privacy training. Records are encrypted during transmission to protect session information and at rest. Encrypted random tokens are implemented to protect against session hijacking attempts.

RECORD ACCESS PROCEDURES:

Individuals seeking access to information about themselves contained in this record system should address inquiries to the Office of the Secretary of Defense/Joint Staff Freedom of Information Act Requester Service Center, 1155 Defense Pentagon, Washington, DC 20301-1155.

Signed, written requests should include the individual's full name, DoD ID number, current address, and telephone number and this system of records notice number.

In addition, the requester must provide either a notarized signature or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The Office of the Secretary of Defense (OSD) rules for accessing records and for contesting contents and appealing initial agency determinations are published in OSD Administrative Instruction 81; 32 CFR part 311; or may be obtained from the system manager.

NOTIFICATION PROCEDURES:

Individuals seeking to determine if information about themselves is contained in this record system should address inquiries to the Director, Office of Family Readiness Policy (OFRP) or SECO Program Manager, Military Community and Family Policy (MC&FP), 4800 Mark Center Drive, Alexandria VA 22350-2300.

Signed, written requests should include the individual's full name, DoD ID number, current address, and telephone number.

In addition, the requester must provide either a notarized signature or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

None.

[FR Doc. 2018-10770 Filed 5-18-18; 8:45 am]

BILLING CODE 5001-06-P